DEPARTMENT OF DEFENSE

Department of the Air Force

[Docket ID: USAF-2013-0005]

Privacy Act of 1974; System of Records

AGENCY: Department of the Air Force, DoD.

ACTION: Notice to alter a System of Records.

SUMMARY: The Department of the Air Force proposes to alter a system of records notice in its existing inventory of records systems subject to the Privacy Act of 1974 (5 U.S.C. 552a), as amended.

DATES: This proposed action will be effective on February 28, 2013 unless comments are received which result in a contrary determination. Comments will be accepted on or before February 27, 2013.

ADDRESSES: You may submit comments, identified by docket number and title, by any of the following methods:

* Federal Rulemaking Portal: http://www.regulations.gov. Follow the instructions for submitting comments.

* Mail: Federal Docket Management System Office, 4800 Mark Center Drive East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/CIO A6, 1800 Air Force Pentagon, Washington, DC 20330-1800, or by phone at (202) 404-6575.

SUPPLEMENTARY INFORMATION: The Department of the Air Force's notices for systems of records subject to the Privacy Act of 1974 (5 U.S.C. 552a), as amended, have been published in the Federal Register and are available from the address in FOR FURTHER INFORMATION CONTACT.

The proposed systems reports, as required by 5 U.S.C. 552a(r) of the Privacy Act of 1974, as amended, were submitted on January 4, 2013 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: January 23, 2013.
Aaron Siegel,
Alternate OSD Federal Register Liaison Officer, Department of Defense.

F036 AF PC U

System name:

Air Force Automated Education Management System (AFAEMS) (April 29, 2010, 75 FR 22573).

* * * * *

Changes:

System Identifier:

Delete entry and replace with “F036 AF A1 A.”

* * * * *

Categories of individuals covered by the system:

Delete entry and replace with “Air Force Active Duty, Air Reserve, Air National Guard and government civilians who participate in the Education Services Program and the Tuition Assistance Program.”

Categories of records in the system:

Delete entry and replace with “Name, Social Security Number (SSN) and/or DoD ID Number, date of birth, mailing address, grade/rank/rate, pay grade, last pay record examined, amount, name of accountable disbursing officer, disbursing station symbol number, general accounting office exception code, date of separation, branch of service, assigned unit, education level, acquisition position, acquisition position career level, assigned base, work phone number, fax number, name of school, location of courses, course information, type of study, tuition and cost information.”

Authority for maintenance of the system:

Delete entry and replace with “10 U.S.C. 8013, Secretary of the Air Force; Air Force Instruction 36-2306, Operation and Administration of the Air Force Education Services Program, Public Law No: 110-417, Subtitle E—Education and Training; and E.O. 9397 (SSN), as amended.”

Purpose(s):

Delete entry and replace with “Manage the tuition assistance, enrollments and funding of individuals participating in education services.”

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

Records may be disclosed to civilian education institutions for the purposes of ensuring correct enrollment and billing information.

The DoD Blanket Routine Uses published at the beginning of the Air Force's compilation of systems of records notices may apply to this system.”

* * * * *

Retrievability:

Delete entry and replace with “Retrieved by name, Social Security Number and/or DoD ID number.”

Safeguards:

Delete entry and replace with “Records are maintained in a controlled facility. Physical entry is restricted by the use of locks, guards, and is accessible by authorized personnel. Access to records is limited to person(s) responsible for servicing the record in the performance of their official duties and who are properly screened and cleared for official need-to-know. System software uses Primary Key Infrastructure (PKI)/Common Access Card (CAC) authentication to lock out unauthorized access. System software contains authorization/permission partitioning to limit access to appropriate organization level.”

Retention and disposal:

Delete entry and replace with “Data stored digitally within the system is retained only for the period required to satisfy recurring processing requirements and/or historical requirements. Backup data files will be retained for a period not to exceed 45 days. Backup files are maintained only for system restoration and are not to be used to retrieve individual records. Computer records are destroyed by erasing, deleting or overwriting.

Records are retained and disposed of in the following ways:

(1) For records pertaining to the individual's education level and progress: Give to individual when released from Employment Authorization Document (EAD), discharged, or destroy when no longer on active duty.

(2) For records pertaining to requests for tuition assistance, records supporting consolidation grade sheets, and cases of non-compliance or failure: Destroy after invoices have been paid and final grades have been recorded on Individual Record Education Services form.

(3) For records pertaining to funding documents, appropriation controls, supporting documents for monitoring obligations: Destroy two years after document's fiscal year appropriation has ended its 'expired year' status and applicable fiscal year appropriation has been cancelled.”

* * * * *

Notification Procedure:

Delete entry and replace with “Individuals seeking to determine whether this system of records contains information on themselves should address inquiries to the Headquarters, United States Air Force, Directorate of Force Development, 1040 Air Force Pentagon, Washington, DC 20330-1040.

For verification purposes, individual should provide their full name, SSN and/or DoD ID Number, current mailing address, any details which may assist in locating records, and their signature.

In addition, the requester must provide a notarized statement or an unsworn declaration made in accordance with 28 U.S.C. 1746, in the following format:

If executed outside the United States: `I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)'.”

Record Access Procedures:

Delete entry and replace with “Individuals seeking access to information about themselves contained in this system of records should address inquiries to the Headquarters, United States Air Force, Directorate of Force Development, 1040 Air Force Pentagon, Washington, DC 20330-1040.

For verification purposes, individuals should provide their full name, SSN and/or DoD ID Number, current mailing address, any details which may assist in locating records, and their signature.

In addition, the requester must provide a notarized statement or an unsworn declaration made in accordance with 28 U.S.C. 1746, in the following format:

If executed outside the United States:

`I declare (or certify, verify, or state) under penalty of perjury under the laws of the United States of America that the foregoing is true and correct. Executed on (date). (Signature)'.

If executed within the United States, its territories, possessions, or commonwealths: `I declare (or certify, verify, or state) under penalty of perjury that the foregoing is true and correct. Executed on (date). (Signature)' ”

* * * * *

[FR Doc. 2013-01688 Filed 1-25-13; 8:45 am]

BILLING CODE 5001-06-P